DEPARTMENT OF COMMERCE

International Trade Administration

Japan-U.S. Decommissioning and Remediation Fukushima Recovery Forum Tokyo, Japan February 18-19, 2014

AGENCY: International Trade Administration, Department of Commerce.

ACTION: Notice.

Event Description

The U.S. Department of Commerce's International Trade Administration (ITA), in partnership with the U.S. Department of Energy, is organizing a Japan-United States Decommissioning and Remediation Fukushima Recovery Forum (“Fukushima Recovery Forum”) on February 18-19 in Tokyo, Japan. The Fukushima Recovery Forum will be a venue for U.S. firms to hear from Japanese Ministries and commissioning entities on plans for Fukushima Recovery and for U.S. and Japanese firms to share experiences, expertise, and lessons learned in remediation and decommissioning, including on work underway at Fukushima Dai-ichi Nuclear Power Station, and in Tohoku, the area affected by the accident at Fukushima. U.S. firms will also be given an opportunity to network with Japanese firms and identify potential business partners. ITA hopes that this cooperation between the U.S. and Japanese private sectors will lead to solutions that will enhance Fukushima recovery efforts. ITA is seeking the participation of a maximum of approximately 25 U.S. companies that produce technology or provide services in the decommissioning or remediation sector, including water treatment and waste management. The U.S. Department of Commerce's Global Markets and U.S. & Foreign Commercial Service (CS) will also be available in Tokyo to provide its export counseling services to participating companies.

Support for the Fukushima Recovery Forum was confirmed at the 2nd meeting of the U.S-Japan Bilateral Commission on Civil Nuclear Cooperation. The Bilateral Commission serves as a senior-level, standing forum for consultations on mutual issues of concern, to further strengthen bilateral cooperation and to advance shared interest in the area of civil nuclear cooperation. The Bilateral Commission is chaired by the Department of Energy and Japan's Ministry of Economy, Trade, and Industry (METI). There are five working groups under the Bilateral Commission to coordinate bilateral cooperation in the areas of civil nuclear energy research and development, the decommissioning of the Fukushima Dai-ichi Nuclear Power Station, environmental management, emergency management, nuclear security, and safety and regulatory issues.

The Decommissioning and Environmental Management Working Group (DEMWG) under the Bilateral Commission addresses the long-term consequences of the Fukushima accident, including facility decommissioning, spent fuel storage, decontamination, and remediation of contaminated areas. The Fukushima Recovery Forum is under the auspices of the DEMWG to further industry cooperation in support of Fukushima Recovery efforts.

Event Goals

The Fukushima Recovery Forum is an event to bring U.S. and Japanese private sector firms in the remediation, decommissioning, and waste management industries together to develop relationships that will assist with the recovery of the Fukushima region. The Forum is intended to be:

• A venue for U.S. firms to meet key Japanese officials involved in the planning of decommissioning, remediation, and other work related to Fukushima Recovery.

• A venue where U.S. and Japanese firms can share experiences, expertise, and lessons learned in remediation and decommissioning, including on work already completed at Fukushima Dai-ichi, and in Tohoku.

• A venue where U.S. and Japanese firms can discuss key technical challenges related to Fukushima clean-up and nuclear decommissioning.

• A venue to foster collaboration between the U.S. and Japanese private sector to solve other challenges related to remediation and decommissioning.

• An opportunity for companies from both the United States and Japan to network, build relationships and identify partners for current projects and potential joint future work.

Event Scenario

On March 11, 2011, an earthquake and tsunami hit Japan and led to a series of events at the Fukushima Dai-ichi Nuclear Power Station in which several units and their adjacent spent fuel pools experienced beyond-design-basis accidents. The four reactors at the site (Units 1-4) that received the brunt of the damage (of the six reactors at the site) also have integral spent fuel pools containing significant amounts of spent nuclear fuel, which were also damaged by the disaster and the subsequent explosions. In addition, radioactivity was released into the surrounding area, causing thousands of people to be evacuated. Japan faces an unprecedented cleanup and decontamination challenge that will take many years to resolve as it strives to decommission Fukushima Dai-ichi and remediate the surrounding areas.

The U.S. Government, and specifically the U.S. Department of Energy national laboratories, have been involved in numerous exchanges of scientific and technical information and expertise with the Government of Japan with the intent to find solutions to problems created by the accident at Fukushima Dai-ichi related to decommissioning and decontamination. The U.S. Department of Commerce's International Trade Administration, with the support of the U.S. Department of Energy, has proposed the Japan-United States Decontamination and Remediation Fukushima Recovery Forum to bring U.S. and Japanese firms together to complement the existing exchanges of information and expertise by providing an opportunity for coordination between the U.S. and Japanese private sectors to find solutions from U.S. firms that would assist Japan with its recovery process.

Participating firms will:

• Receive a briefing on the status of Fukushima Dai-ichi decommissioning and decontamination work from relevant officials from the Japanese Government and industry.

• Participate in panel or breakout discussions focusing on decontamination, remediation and waste management. Firms with appropriate experience or technologies will be asked to present during these discussions.

• Exchange views on viable solutions to the challenges on Fukushima recovery with counterparts from the Japanese private sector;nder the CP Program would be two million shares, whereas the threshold under the ETP Incentive Program is one million shares).

• Participate in one-on-one networking sessions with interested Japanese firms;

• Attend a networking reception with senior leaders from Japan's Government and industry hosted by a senior U.S. Government representative from the Embassy in Tokyo;

• Take advantage of the Commercial Service in Tokyo's business advisory services if desired by the U.S. participant firms and should CS Japan resources be able to accommodate such interest.

• There may be an opportunity to participate in an optional tour to the Fukushima Dai-Ichi Nuclear Power Plant. This tour would incur additional fees.

Proposed Schedule

February 18

Participate in discussions with U.S. and Japanese firms consisting of presentations and discussions on specific aspects of Fukushima Recovery, including decommissioning, remediation, waste management, and water management.

Participate in networking opportunities with Japanese firms.

Attend a networking reception with senior leaders from Japan's Government and industry hosted by a senior U.S. Government representative from the Embassy in Tokyo.

February 19

Participate in briefings by Japanese Government and other entities on the status of the situation at Fukushima Dai-ichi Nuclear Power Station and surrounding area.

Participate in one-on-one networking activities coordinated by Global Markets and the U.S. and Foreign Commercial Service.

Updates to the events related to the Fukushima Recovery Forum can be found at: http://export.gov/japan/fukushima/forum/

Participation Requirements

All parties interested in participating in the Fukushima Recovery Forum must complete and submit an application package for consideration by the Department of Commerce. All applicants will be evaluated based on their ability to meet certain conditions and best satisfy the selection criteria as outlined below. A maximum of 25 companies will be selected to participate in the Business Forum from the applicant pool. U.S. companies already doing business in Japan as well as U.S. companies seeking to enter to the Japanese market for the first time may apply. Applications will be reviewed on a rolling basis in the order that they are received.

Fees and Expenses

After a company has been selected to participate in the Forum, a participation fee is required. The participation fee is $930.00 for large firms. The participation fee is $665.00 for small or medium-sized firms.¹ Fees will cover the cost for interpreters, a booklet containing information about the firms, and the costs for the reception.

¹ An SME is defined as a firm with 500 or fewer employees or that otherwise qualifies as a small business under SBA regulations (see http://www.sba.gov/size). Parent companies, affiliates, and subsidiaries will be considered when determining business size. The dual pricing reflects the Commercial Service's user fee schedule that became effective May 1, 2008. For additional information, see http://www.export.gov/newsletter/march2008/initiatives.html

Exclusions

The conference fee does not include any personal travel expenses such as airfare, lodging, most meals, incidentals, and local ground transportation and personal interpreters used during the networking sessions. Delegation members will be able to take advantage of U.S. Embassy rates for hotel rooms. Business visas may be required. Government fees and processing expenses to obtain such visas are also not included in the Fukushima Recovery Forum costs. However, the U.S. Department of Commerce will provide instructions to each participant on the procedures required to obtain necessary business visas.

Conditions for Participation

Applicants must submit a completed mission application signed by a company official, together with supplemental application materials, including adequate information on the company's products and/or services, interest in doing business in Japan, and goals for participation by January 15, 2014. If the U.S. Department of Commerce receives an incomplete application, the U.S. Department of Commerce may reject the application, request additional information, or take the lack of information into account in its evaluation.

Each applicant must also certify that the products or services it seeks to export through its participation in the Fukushima Recovery Forum are either produced in the United States, or, if not, marketed under the name of a U.S. firm and that the promotion of the products or services the applicant seeks to export would be consistent with CS's statutory mission.

Selection Criteria for Participation

Selection will be based on the following criteria:

• Suitability of the company's products or services to the Japanese decommissioning or remediation sector, including water management and waste management;

• The company's potential for business in Japan, including likelihood of exports resulting from participation in the Fukushima Recovery Forum;

• The company's ability to identify and engage on policy issues relevant to U.S. competitiveness in the decontamination or remediation sectors in Japan; and

• Consistency of the company's goals and objectives with the scope of the Fukushima Recovery Forum.

Additional factors, such as diversity of company size, industry subsector, location, and demographics, may also be considered during the review process.

Referrals from political organizations and any documents containing references to partisan political activities (including political contributions) will be removed from an applicant's submission and not considered during the selection process.

Timeframe for Recruitment and Participation

Recruitment for the Fukushima Recovery Forum will be conducted in an open and public manner, including publication in the Federal Register, posting on CS Japan's Web site, notices by industry trade associations and other multiplier groups, and publicity through the Commercial Service network. Recruitment will begin immediately and conclude no later than January 15, 2014. The U.S. Department of Commerce will review applications and make selection decisions beginning on or about January 6, 2014. Applications received after January 15, 2014 will be considered only if space and scheduling constraints permit.

Applications for participation in the Fukushima Recovery Forum are available on line at: http://export.gov/japan/fukushima/forum/

DATES: The Fukushima Recovery Forum will take place February 18-19, 2014. Applications are due no later than January 15, 2014.

Contacts

Danius Barzdukas, Office of East Asia and APEC, International Trade Administration, Department of Commerce, Phone: 202-482-1147, email: Danius.Barzdukas@trade.gov.

Gregory Briscoe, U.S. Commercial Service Tokyo, International Trade Administration, Department of Commerce, Phone: +81-3-3224-5088, email: Gregory.Briscoe@trade.gov.

David Kincaid, Designated Federal Officer for the Civil Nuclear Trade advisory Committee & Representative of the USG Civil Nuclear Coordination Team, International Trade Administration, Department of Commerce, Phone: 202-482-1706, email: David.Kincaid@trade.gov.

Elnora Moye,
Trade Program Assistant.

[FR Doc. 2013-30751 Filed 12-24-13; 8:45 am]

BILLING CODE 3510-DR-P